DEPARTMENT OF ENERGY

Federal Energy Regulatory Commission

Combined Notice of Filings #1

Take notice that the Commission received the following electric corporate filings:

Docket Numbers: EC22-18-000.

Applicants: FL Solar 5, LLC.

Description: Application for Authorization Under Section 203 of the Federal Power Act of FL Solar 5, LLC.

Filed Date: 11/19/21.

Accession Number: 20211119-5279.

Comment Date: 5 p.m. ET 12/10/21.

Docket Numbers: EC22-19-000.

Applicants: Meadow Lake Solar Park LLC, Indiana Crossroads Solar Generation LLC.

Description: Joint Application for Authorization Under Section 203 of the Federal Power Act of Meadow Lake Solar Park LLC, et al.

Filed Date: 11/19/21.

Accession Number: 20211119-5283.

Comment Date: 5 p.m. ET 12/10/21.

Docket Numbers: EC22-20-000.

Applicants: Dunns Bridge Solar Center, LLC, Dunn's Bridge I Solar Generation LLC.

Description: Joint Application for Authorization Under Section 203 of the Federal Power Act of Dunns Bridge Solar Center, LLC, et al.

Filed Date: 11/19/21.

Accession Number: 20211119-5285.

Comment Date: 5 p.m. ET 12/10/21.

Take notice that the Commission received the following electric rate filings:

Docket Numbers: ER20-2133-002.

Applicants: ISO New England Inc., Versant Power.

Description: Compliance filing: ISO New England Inc. submits tariff filing per 35: Versant Power; Docket No. ER20-2133—Joint Offer of Settlement; Order No. 864 to be effective 6/1/2020.

Filed Date: 11/22/21.

Accession Number: 20211122-5087.

Comment Date: 5 p.m. ET 12/13/21.

Docket Numbers: ER21-530-002.

Applicants: Midcontinent Independent System Operator, Inc.

Description: Compliance filing: 2021-11-22_MISO Compliance Filing re Schedule 49 Settlement to be effective 2/1/2021.

Filed Date: 11/22/21.

Accession Number: 20211122-5186.

Comment Date: 5 p.m. ET 12/13/21.

Docket Numbers: ER21-1280-000.

Applicants: Southern California Edison Company.

Description: Southern California Edison Company submits Morongo Transmission Annual Formula Transmission Rate Filing for Rate Year 2022.

Filed Date: 11/19/21.

Accession Number: 20211119-5282.

Comment Date: 5 p.m. ET 12/10/21.

Docket Numbers: ER22-450-000.

Applicants: PJM Interconnection, L.L.C.

Description: Tariff Amendment: Notice of Cancellation of ICSA, SA No. 4402; Queue No. AA1-095 to be effective 11/2/2020.

Filed Date: 11/19/21.

Accession Number: 20211119-5241.

Comment Date: 5 p.m. ET 12/10/21.

Docket Numbers: ER22-451-000.

Applicants: PJM Interconnection, L.L.C.

Description: § 205(d) Rate Filing: PJM submits revisions to Operating Agreement regarding CISO Avoidance to be effective 1/19/2022.

Filed Date: 11/19/21.

Accession Number: 20211119-5254.

Comment Date: 5 p.m. ET 12/10/21.

Docket Numbers: ER22-452-000.

Applicants: Wheeling Power Company.

Description: § 205(d) Rate Filing: New Mitchell Plant Agreements: Ownership; Operation and Maintenance to be effective 1/19/2022.

Filed Date: 11/19/21.

Accession Number: 20211119-5269.

Comment Date: 5 p.m. ET 12/10/21.

Docket Numbers: ER22-453-000.

Applicants: Kentucky Power Company.

Description: § 205(d) Rate Filing: New Mitchell Plant Agreements Concurrence to be effective 1/19/2022.

Filed Date: 11/22/21.

Accession Number: 20211122-5001.

Comment Date: 5 p.m. ET 12/13/21.

Docket Numbers: ER22-454-000.

Applicants: Entergy Louisiana, LLC, Entergy Services, LLC.

Description: Request for Limited Waiver of Entergy Louisiana, LLC.

Filed Date: 11/19/21.

Accession Number: 20211119-5276.

Comment Date: 5 p.m. ET 12/10/21.

Docket Numbers: ER22-455-000.

Applicants: PJM Interconnection, L.L.C.

Description: § 205(d) Rate Filing: Amendment to ISA, Service Agreement No. 5984; Queue Nos. AC1-174/AC1-175 to be effective 2/11/2021.

Filed Date: 11/22/21.

Accession Number: 20211122-5067.

Comment Date: 5 p.m. ET 12/13/21.

Docket Numbers: ER22-456-000.

Applicants: Indra Power Business MA LLC.

Description: Baseline eTariff Filing: Tariffs and Agreements to be effective 1/22/2022.

Filed Date: 11/22/21.

Accession Number: 20211122-5115.

Comment Date: 5 p.m. ET 12/13/21.

Docket Numbers: ER22-457-000.

Applicants: Midcontinent Independent System Operator, Inc.

Description: § 205(d) Rate Filing: 2021-11-15_SA 3393 Ameren IL-Sapphire Sky Wind 2nd Rev GIA (J826 J1022) to be effective 11/15/2021.

Filed Date: 11/22/21.

Accession Number: 20211122-5137.

Comment Date: 5 p.m. ET 12/13/21.

Docket Numbers: ER22-458-000.

Applicants: Southern California Edison Company.

Description: § 205(d) Rate Filing: LGIA Cyclone Solar TOT806 SA No 274 to be effective 11/23/2021.

Filed Date: 11/22/21.

Accession Number: 20211122-5140.

Comment Date: 5 p.m. ET 12/13/21.

Docket Numbers: ER22-459-000.

Applicants: PPL Electric Utilities Corporation, PJM Interconnection, L.L.C.

Description: § 205(d) Rate Filing: PPL Electric Utilities Corporation submits tariff filing per 35.13(a)(2)(iii: PPL Electric submits SA No 6222 Construction Agreement with Borough of Weatherly to be effective 11/23/2021.

Filed Date: 11/22/21.

Accession Number: 20211122-5149.

Comment Date: 5 p.m. ET 12/13/21.

Docket Numbers: ER22-460-000.

Applicants: PPL Electric Utilities Corporation, PJM Interconnection, L.L.C.

Description: § 205(d) Rate Filing: PPL Electric Utilities Corporation submits tariff filing per 35.13(a)(2)(iii: PPL Electric submits SA No 6223 Construction Agreement with Schuylkill Haven to be effective 11/23/2021.

Filed Date: 11/22/21.

Accession Number: 20211122-5152.

Comment Date: 5 p.m. ET 12/13/21.

Docket Numbers: ER22-461-000.

Applicants: Midcontinent Independent System Operator, Inc.

Description: Compliance filing: 2021-11-22_Waiver Request on SER-II Ineligibility to Provide Offline STR to be effective N/A.

Filed Date: 11/22/21.

Accession Number: 20211122-5168.

Comment Date: 5 p.m. ET 12/13/21.

Docket Numbers: ER22-462-000.

Applicants: Midcontinent Independent System Operator, Inc.

Description: § 205(d) Rate Filing: 2021-11-22_SER-II Ineligibility to Provide Offline STR to be effective 12/7/2021.

Filed Date: 11/22/21.

Accession Number: 20211122-5169.

Comment Date: 5 p.m. ET 12/13/21.

Docket Numbers: ER22-463-000.

Applicants: Wisconsin Public Service Corporation.

Description: § 205(d) Rate Filing: Agent Services Agreement Filing to be effective 1/22/2022.

Filed Date: 11/22/21.

Accession Number: 20211122-5187.

Comment Date: 5 p.m. ET 12/13/21.

Docket Numbers: ER22-464-000.

Applicants: Indra Power Business MD LLC.

Description: Baseline eTariff Filing: Tariffs and Agreements to be effective 1/22/2022.

Filed Date: 11/22/21.

Accession Number: 20211122-5209.

Comment Date: 5 p.m. ET 12/13/21.

Docket Numbers: ER22-465-000.

Applicants: Tri-State Generation and Transmission Association, Inc.

Description: § 205(d) Rate Filing: Amendment to Rate Schedule No. 812 to be effective 2/25/2020.

Filed Date: 11/22/21.

Accession Number: 20211122-5221.

Comment Date: 5 p.m. ET 12/13/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 22, 2021.
Kimberly D. Bose,
Secretary.

[FR Doc. 2021-25942 Filed 11-26-21; 8:45 am]

BILLING CODE 6717-01-P